COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products and services previously furnished by such agencies.

DATES: Comments must be received on or before: April 8, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service Type: Janitorial Service

Mandatory for: U.S. Air Force, Joint Warfare Analysis Center, Naval Support Activity—South Potomac, 4048 Higley Road, Buildings 1450A, 1450B, 1452D, and 1451, Dahlgren, VA

Mandatory Source of Supply: Melwood Horticulture Training Center, Upper Marlboro, MD

Contracting Activity: ACC AMIC/JWAC

Deletions

The following products and services are proposed for deletion from the Procurement List:

Products

NSN(s)—Product Name(s): 8405-01-375-8999—Cap, Garrison, Air Force, Men's, Blue, 7⅞

Mandatory Source of Supply: Goodwill Industries of South Florida, Inc., Miami, FL

Contracting Activity: Defense Logistics Agency Troop Support

NSN(s)—Product Name(s): 6530-01-115-7835—Holder, Clinical Chart

Mandatory Source of Supply: CW Resources, Inc., New Britain, CT

Contracting Activity: Defense Logistics Agency Troop Support

NSN(s)—Product Name(s): 6510-01-336-6192—Dressing, First Aid, Field Training

Mandatory Source of Supply: Elwyn, Aston, PA

Contracting Activity: Defense Logistics Agency Troop Support

Services

Service Type: Janitorial/Custodial Service

Mandatory for: Naval Air Station: ARCOM Buildings 176 & 177, Willow Grove, PA

Mandatory Source of Supply: The Chimes, Inc., Baltimore, MD

Contracting Activity: Dept of the Navy, Naval FAC Engineering CMD MID LANT

Service Type: Custodial/Grounds Maint/Refuse Removal/Snow Removal Service

Mandatory for: Naval Operations Support Center: 1089 E. Ninth Street, Cleveland, OH, 800 Dan Street, Akron, OH

Mandatory Source of Supply: VGS, Inc., Cleveland, OH

Contracting Activity: Dept of the Navy, Naval FAC Engineering CMD MIDWEST

Amy B. Jensen,
Director, Business Operations.

[FR Doc. 2018-04819 Filed 3-8-18; 8:45 am]

BILLING CODE 6353-01-P